SMALL BUSINESS ADMINISTRATION

[Declaration of Disaster #3269]

State of North Dakota

As a result of the President's major disaster declaration on June 27, 2000, I find that the following Counties and Indian Reservations in the State of North Dakota constitute a disaster area due to damages caused by severe storms, flooding, and ground saturation beginning on June 12, 2000 and continuing: Benson, Bottineau, Cass, Eddy, Foster, Grand Forks, Griggs, Kidder, McHenry, McLean, Nelson, Pierce, Ramsey, Ransom, Sheridan, Traill, Walsh, and Wells Counties, and the Indian Reservations of the Spirit (Devil's) Lake Tribal Reservation and the Turtle Mountain Band of Chippewa. Applications for loans for physical damage as a result of this disaster may be filed until the close of business on August 26, 2000, and for loans for economic injury until the close of business on March 27, 2001 at the address listed below or other locally announced locations: U.S. Small Business Administration, Disaster Area 3 Office, 4400 Amon Carter Blvd., Suite 102, Fort Worth, TX 76155.

In addition, applications for economic injury loans from small businesses located in the following contiguous counties may be filed until the specified date at the above location: Barnes, Burleigh, Cavalier, Dickey, Emmons, LaMoure, Logan, Mercer, Montrail, Oliver, Pembina, Penville, Richland, Rolette, Sargent, Steele, Stutsman, Towner, and Ward Counties in North Dakota, and Clay, Kittson, Marshall, Norman, Polk, and Wilkin Counties in Minnesota.

The interest rates are:

| Percent
For Physical Damage
Homeowners with credit available elsewhere | 7.375
Homeowners without credit available elsewhere | 3.687
Businesses with credit available elsewhere | 8.000
Businesses and non-profit organizations without credit available elsewhere | 4.000
Others (including non-profit organizations) with credit available elsewhere | 6.750
For Economic Injury
Businesses and small agricultural cooperatives without credit available elsewhere | 4.000

The number assigned to this disaster for physical damage is 326906. For economic injury the numbers are 9H5900 for North Dakota, and 9H6000 for Minnesota.

(Catalog of Federal Domestic Assistance Program Nos. 59002 and 59008.)
Dated: July 5, 2000.
Herbert L. Mitchell,
Acting Associate Administrator for Disaster Assistance.

[FR Doc. 00-17889 Filed 7-13-00; 8:45 am]

BILLING CODE 8025-01-P